DEPARTMENT OF AGRICULTURE

Animal and Plant Health Inspection Service

[Docket No. APHIS-2020-0032]

Notice of Decision To Deregulate Light Brown Apple Moth for Fruit Imported From New Zealand Into the United States

AGENCY: Animal and Plant Health Inspection Service, USDA.

ACTION: Notice.

SUMMARY: We are advising the public of our decision to deregulate light brown apple moth (LBAM) for fruit imported from New Zealand into the United States. Currently, fruit imported from New Zealand into the United States must be accompanied by a phytosanitary certificate with an additional declaration stating that the fruit is free of LBAM. Based on the findings of a commodity import evaluation document, which we made available to the public for review and comment through a previous notice, we are removing the requirement for the additional declaration. Accordingly, we are revising the U.S. Department of Agriculture's Animal and Plant Health Inspection Service Agricultural Commodity Import Requirements database regarding LBAM requirements for fruit imported from New Zealand into the United States. This change will harmonize our domestic and import requirements.

DATES: The articles covered by this notification may be authorized for importation under the revised requirements after July 25, 2025.

FOR FURTHER INFORMATION CONTACT: Ms. Julie Orr, Regulatory Policy Specialist IRM-PEIP-PPQ-APHIS, 1400 Independence SW, Washington, DC 20250; (240) 946-0542; Julie.Orr@usda.gov.

SUPPLEMENTARY INFORMATION:

Background

Under the regulations in “Subpart L—Fruits and Vegetables” (7 CFR 319.56-1 through 319.56-12, referred to below as the regulations), the Animal and Plant Health Inspection Service (APHIS) of the U.S. Department of Agriculture (USDA) prohibits or restricts the importation of fruits and vegetables into the United States from certain parts of the world to prevent plant pests from being introduced into and spread within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, be listed on the USDA's APHIS Agricultural Commodity Import Requirements (ACIR) database (https://acir.aphis.usda.gov/s/). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

The light brown apple moth (LBAM), Epiphyas postvittana (Tortricidae), is a native pest of Australia and is now widely distributed in New Zealand, the United Kingdom, Ireland, and New Caledonia. LBAM is a pest of concern in the United States and elsewhere because it can damage a wide range of fruits, vegetables, and other valuable plants. It was reported in Hawaii in the late 1800s and detected in Alameda County, California in 2007. In response to the 2007 detection, APHIS conducted delimiting surveys and issued a series of Federal Orders to establish quarantines and host lists and to regulate the movement of LBAM hosts from affected areas.

However, since 2007, APHIS has developed pest risk assessments (PRAs) for a number of LBAM hosts and established that standard commercial production practices are sufficient to remove any risk from the spread of LBAM in commercially produced commodities. As a result, APHIS has determined that due to both the absence of significant damage in commercial agriculture and the availability of effective treatments, Federal involvement to regulate LBAM as a pest of quarantine significance for these commodities appears to be no longer necessary.¹

¹ The Federal Order removing domestic quarantines and other restrictions imposed by previous orders may be viewed at https://www.aphis.usda.gov/plant_health/downloads/da-2021-29-lbam-deregulation.pdf.

Currently, fruit from New Zealand imported into the United States must be accompanied by a phytosanitary certificate with an additional declaration that the fruit is free of LBAM. However, under International Standards for Phytosanitary Measures 20,² APHIS cannot regulate an imported commodity for a specific pest more stringently than it regulates the commodity domestically unless this discrepancy is technically justified.

² The document may be viewed at http://www.fao.org/3/a-y5721e.pdf.

In accordance with the requirements of § 319.56-4, we published a notice ³ in the Federal Register on November 25, 2024 (89 FR 92887-92888, Docket No. APHIS-2020-0032), in which we announced the availability of a commodity import evaluation document (CIED) for public review and comment. Based on the findings of pest risk assessments cited in the CIED, APHIS has concluded that consignments of commercially produced fresh fruit from New Zealand may safely be imported to the United States without requiring LBAM-specific mitigations.

³ To view the notice, supporting documents, and the comments we received, go to www.regulations.gov. Enter APHIS-2020-0032 in the Search field.

We proposed to no longer require the additional declaration of LBAM freedom for the following commodities imported from New Zealand into the United States:

Apple—Malus domestica

Apricot—Prunus armeniaca

Avocado—Persea americana

Blackberry—Rubus sp.

Blueberry—Vaccinium angustifolium, Vaccinium ashei, Vaccinium corymbosum, Vaccinium virgatum

Cherry—Prunus avium

Currant—Ribes spp.

Feijoa—Acca sellowiana

Grapes—Vitis vinifera

Kiwi—Actinidia spp. (A. deliciosa, A. arguta, A. chinensis, A. kolomikta, A. melanandra, A. polygama, A. rubricaulis var. coriacea

Loquat—Eriobotrya japonica (Into Guam and CNMI)

Nectarine—Prunus persica nucipersica

Peach—Prunus persica var. persica

Pear—Pyrus communis

Plum—Prunus domestica ssp. domestica

Raspberry—Rubus sp.

Sand Pear—Pyrus pyrifolia var. culta

Strawberry—Fragaria x ananassa

If consignments of the above fruits are not precleared, the consignment will need to be accompanied by a phytosanitary certificate issued by the National Plant Protection Organization (NPPO) of New Zealand.

Additionally, consignments of citrus (Citrus spp) and persimmon (Diospyros kaki) fruit must be accompanied by a phytosanitary certificate issued by the NPPO of New Zealand with an additional declaration stating the fruit is free of Cnephasia jactatana, Coscinoptycha improbana, Ctenopseustis obliquana, Pezothrips kellyanus, and Planotortrix excessana.

We solicited comments on the notice for 60 days ending January 24, 2025. We received two comments by that date, one from a New Zealand industry organization and one from a New Zealand government ministry. Both commenters expressed support for the notice. One commenter, from the government ministry, requested assurances that, upon arrival, inspections of non-precleared consignments will be commensurate with risk, and that the higher sampling rates specific for LBAM host commodities are removed from the inspection manual.

We note that no port-of-entry inspection procedures target LBAM specifically. Rather, the inspection procedures employed on fruits and vegetables from New Zealand match those for agricultural commodities from numerous other countries and have been developed to detect quarantine pests as well as hitchhikers, weeds, and soil. After the deregulation of LBAM, the inspection procedures at the port of entry will remain the same for the listed agricultural commodities from New Zealand if they have not been pre-cleared in the country of origin.

Therefore, in accordance with the regulations in § 319.56-4(c), we are announcing our decision to deregulate LBAM for fruit imported from New Zealand into the United States subject to the phytosanitary measures identified in the CIED that accompanied the initial notice.

The conditions will be listed in the ACIR database. In addition to these specific measures, fruit from New Zealand will be subject to the general requirements listed in § 319.56-3 that are applicable to the importation of all fruits and vegetables.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact APHIS.PRA@usda.gov.

Authority: 7 U.S.C. 1633, 7701-7772, and 7781-7786; 21 U.S.C. 136 and 136a; 7 CFR 2.22, 2.80, and 371.3.

Done in Washington, DC, this 22nd day of July 2025.
Michael Watson,
Administrator, Animal and Plant Health Inspection Service.

[FR Doc. 2025-14091 Filed 7-24-25; 8:45 am]

BILLING CODE 3410-34-P